DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of 22 individuals and 13 entities whose property and interests in property have been unblocked pursuant to the Foreign Narcotics Kingpin Designation Act (“Kingpin Act”) (21 U.S.C. 1901-1908, 8 U.S.C. 1182).

DATES: The unblocking and removal from the list of Specially Designated Nationals and Blocked Persons (“SDN List”) of the 22 individuals and 13 entities identified in this notice whose property and interests in property were blocked pursuant to the Kingpin Act, is effective on January 30, 2013.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On January 30, 2013, the Director of OFAC removed from the SDN List the 22 individuals and 13 entities listed below, whose property and interests in property were blocked pursuant to the Kingpin Act:

Individuals

1. VARGAS RUEDA, Nelson (a.k.a. “ALFREDO”; a.k.a. “HUGO”); DOB 27 Apr 1970; Cedula No. 77130763 (Colombia) (individual) [SDNTK].

2. AGUILAR TORRES, Evangelina, c/o CASA DE EMPENO RIO TIJUANA, S.A. DE C.V., Tijuana, Baja California, Mexico; DOB 02 May 1956; POB Tijuana, Baja California, Mexico (individual) [SDNTK].

3. ALVAREZ HERNANDEZ, Maria Teresa, c/o CONSULTORIA DE OCCIDENTE, S.A. DE C.V., Guadalajara, Jalisco, Mexico; c/o GS PLUS CONSULTORES, S.A. DE C.V., Tijuana, Baja California, Mexico; DOB 25 Jul 1960; POB Guadalajara, Jalisco, Mexico; R.F.C. AAHT-600725-4L7 (Mexico) (individual) [SDNTK].

4. ARMENTA ZAVALA, Arnoldo Humberto, Av. Pte. A. de Sta. Na. 21741, Colonia Infonavit Presidentes, Tijuana, Baja California CP 22576, Mexico; c/o CASA DE EMPENO RIO TIJUANA, S.A. DE C.V., Tijuana, Baja California, Mexico; DOB 12 Nov 1971; R.F.C. AEZA-711112-AA5 (Mexico) (individual) [SDNTK].

5. BECERRA RODRIGUEZ, Mario Alberto, Calle del Creston 334, Colonia Playas de Tijuana, Tijuana, Baja California CP 22300, Mexico; c/o CASA DE EMPENO RIO TIJUANA, S.A. DE C.V., Tijuana, Baja California, Mexico; c/o MULTISERVICIOS DEL NOROESTE DE MEXICO, S.A. DE C.V., Tijuana, Baja California, Mexico; DOB 17 Sep 1954; POB Tijuana, Baja California, Mexico; R.F.C. BERM-540917-181 (Mexico) (individual) [SDNTK].

6. CARRILLO CUEVAS, Mario Alberto, Calle Lago Chaira 323, Colonia Vista Dorada, Ensenada, Baja California CP 22800, Mexico; c/o CASA DE EMPENO RIO TIJUANA, S.A. DE C.V., Tijuana, Baja California, Mexico; DOB 11 Sep 1980; POB Navojoa, Sonora, Mexico (individual) [SDNTK].

7. DELGADO GUTIERREZ, Elias, Calle Ramon Lopez Velarde 36, Colonia Reforma, Tijuana, Baja California CP 22620, Mexico; c/o CENTRO CAMBIARIO KINO, S.A. DE C.V., Tijuana, Baja California, Mexico; c/o CONSULTORIA DE INTERDIVISAS, S.A. DE C.V., Tijuana, Baja California, Mexico; c/o GS PLUS CONSULTORES, S.A. DE C.V., Tijuana, Baja California, Mexico; c/o M Q CONSULTORES, S.A. DE C.V., Tijuana, Baja California, Mexico; DOB 26 Feb 1964; R.F.C. DEGE-640226-3W9 (Mexico) (individual) [SDNTK].

8. DONO MORALES, Edman Manuel, Privada Niza 3617 Int. 2, Colonia Playas de Tijuana, Tijuana, Baja California, Mexico; c/o GRUPO GAMAL, S.A. DE C.V., Guadalajara, Jalisco, Mexico; c/o GS PLUS CONSULTORES, S.A. DE C.V., Tijuana, Baja California, Mexico; DOB 20 Jul 1966; POB Guadalajara, Jalisco, Mexico (individual) [SDNTK].

9. ESCOBEDO MORALES, Sandra Angelica, c/o CENTRO CAMBIARIO KINO, S.A. DE C.V., Tijuana, Baja California, Mexico; c/o CONSULTORIA DE INTERDIVISAS, S.A. DE C.V., Tijuana, Baja California, Mexico; c/o MULTISERVICIOS ALPHA, S.A. DE C.V., Tijuana, Baja California, Mexico; DOB 25 Dec 1966; POB Guadalajara, Jalisco, Mexico (individual) [SDNTK].

10. MARTINEZ PLAZA, Omar Axel, c/o MULTISERVICIOS SIGLO, S.A. DE C.V., Tijuana, Baja California, Mexico; DOB 04 Aug 1972; POB Irapuato, Guanajuato, Mexico (individual) [SDNTK].

11. PEREIRA BERUMEN, Luis Miguel, Calle Relampago 1136 Secc. Dorado, Tijuana, Baja California, Mexico; c/o MULTISERVICIOS GAMAL, S.A. DE C.V., Tijuana, Baja California, Mexico; DOB 10 Sep 1975 (individual) [SDNTK].

12. PEREZ ELIAS, Sofia, Calle Oslo 3692, Colonia Playas Costa Azul, Tijuana, Baja California CP 22250, Mexico; c/o HACIENDA DE DON JOSE RESTAURANT BAR, S.A. DE C.V., Tijuana, Baja California, Mexico; c/o MULTISERVICIOS ALPHA, S.A. DE C.V., Tijuana, Baja California, Mexico; DOB 10 Oct 1973; POB Tijuana, Baja California, Mexico (individual) [SDNTK].

13. QUINTERO HERNANDEZ, Miguel Angel, Calle Ventisca 2359 Secc. Dorado, Colonia Playas de Tijuana, Tijuana, Baja California, Mexico; c/o M Q CONSULTORES, S.A. DE C.V., Tijuana, Baja California, Mexico; DOB 22 Oct 1970; POB Guadalajara, Jalisco, Mexico; R.F.C. QUHM-701022-TL3 (Mexico) (individual) [SDNTK].

14. RUELAS MARTINEZ, Jose Manuel, 402 Milagrosa Circle, Chula Vista, CA 91910; Av. Pque. Mexico Nte. 824, Colonia Playas de Tijuana, Tijuana, Baja California CP 22200, Mexico; Esmeralda 3091, Colonia Residencial Victoria CR 45051, Zapopan, Jalisco CP 44550, Mexico; c/o GLOBAL FILMS, S.A. DE C.V., Tijuana, Baja California, Mexico; c/o HACIENDA DE DON JOSE RESTAURANT BAR, S.A. DE C.V., Tijuana, Baja California, Mexico; c/o MULTISERVICIOS ALPHA, S.A. DE C.V., Tijuana, Baja California, Mexico; c/o MULTISERVICIOS GAMAL, S.A. DE C.V., Tijuana, Baja California, Mexico; c/o MULTISERVICIOS SIGLO, S.A. DE C.V., Tijuana, Baja California, Mexico; DOB 16 Jun 1960; POB Talpa de Allende, Jalisco, Mexico; alt. POB Guadalajara, Jalisco, Mexico; Passport 036182282 (United States); SSN 622-18-0486 (United States); R.F.C. RUMM-600616-G69 (Mexico) (individual) [SDNTK].

15. RUELAS MARTINEZ, Felipe, Calle Saino 5, Colonia Hacienda del Tepeyac, Zapopan, Jalisco CP 45053, Mexico; Calle Ventisca 2359 Secc. Dorado, Colonia Playas de Tijuana, Tijuana, Baja California, Mexico; DOB 06 Jun 1962 (individual) [SDNTK].

16. RUELAS MARTINEZ, Jose de la Cruz, Calle de la Ventisca 640, Colonia Playas Seccion Dorado, Tijuana, Baja California CP 22205, Mexico; Calle Ventisca 2359 Secc. Dorado, Colonia Playas de Tijuana, Tijuana, Baja California, Mexico; c/o CONSULTORIA DE INTERDIVISAS, S.A. DE C.V., Tijuana, Baja California, Mexico; c/o MULTISERVICIOS ALPHA, S.A. DE C.V., Tijuana, Baja California, Mexico; DOB 30 Mar 1965; POB Guadalajara, Jalisco, Mexico; Passport 01020023629 (Mexico) (individual) [SDNTK].

17. RUELAS TOPETE, Carlos Antonio, Calle de la Bahia 3178, Colonia Playas Costa Hermosa, Tijuana, Baja California CP 22240, Mexico; Calle Ventisca 2359 Secc. Dorado, Colonia Playas de Tijuana, Tijuana, Baja California, Mexico; c/o HACIENDA DE DON JOSE RESTAURANT BAR, S.A. DE C.V., Tijuana, Baja California, Mexico; DOB 12 Aug 1968; POB Guadalajara, Jalisco, Mexico; R.F.C. RUTC-680812-PS6 (Mexico) (individual) [SDNTK].

18. RUELAS TOPETE, Eduardo, Ave. Pque. Mexico Sur 910, Colonia Playas de Tijuana, Tijuana, Baja California CP 22200, Mexico; Calle del Volcan 682, Colonia Playas de Tijuana, Tijuana, Baja California CP 22200, Mexico; c/o CONSULTORIA DE OCCIDENTE, S.A. DE C.V., Guadalajara, Jalisco, Mexico; c/o HACIENDA DE DON JOSE RESTAURANT BAR, S.A. DE C.V., Tijuana, Baja California, Mexico; DOB 20 Feb 1967; POB Guadalajara, Jalisco, Mexico; R.F.C. RUTE-670220-DVO (Mexico) (individual) [SDNTK].

19. RUELAS TOPETE, Jose Luis, c/o CONSULTORIA DE OCCIDENTE, S.A. DE C.V., Guadalajara, Jalisco, Mexico; DOB 13 Aug 1970; POB Guadalajara, Jalisco, Mexico; R.F.C. RUTL-700813-L31 (Mexico) (individual) [SDNTK].

20. SANCHEZ CURIEL, Silvia Patricia, c/o M Q CONSULTORES, S.A. DE C.V., Tijuana, Baja California, Mexico; DOB 28 Sep 1976; POB Guadalajara, Jalisco, Mexico (individual) [SDNTK].

21. VELAZQUEZ HERNANDEZ, Juan Gabriel, Callejon Revolucion 1050, Colonia Zona Centro, Tijuana, Baja California, Mexico; c/o GS PLUS CONSULTORES, S.A. DE C.V., Tijuana, Baja California, Mexico; DOB 20 Mar 1975; POB Tijuana, Baja California, Mexico (individual) [SDNTK].

22. VILLASENOR COVARRUBIAS, Jorge Miguel, Av. de las Rocas 1548, Fracc. Playas de Tijuana, Tijuana, Baja California, Mexico; Av. Via Rapida S/N, Colonia Zona Rio, Tijuana, Baja California, Mexico; Prv. Montecarlo 12106, Colonia Res. Agua Caliente, Tijuana, Baja California CP 22480, Mexico; c/o MULTISERVICIOS BRAVIO, S.A. DE C.V., Tijuana, Baja California, Mexico; DOB 31 May 1948; POB Distrito Federal, Mexico; R.F.C. VICJ-480531-RJ7 (Mexico) (individual) [SDNTK].

Entities

1. CASA DE EMPENO RIO TIJUANA, S.A. DE C.V., Paseo de los Heroes, No. 98 Loc. 14 D C, Colonia Zona Urbana Rio Tijuana, Tijuana, Baja California CP 22010, Mexico [SDNTK].

2. CENTRO CAMBIARIO KINO, S.A. DE C.V. (a.k.a. GAMAL-MULTISERVICIOS), Av. Independencia 1 Plaza Padre Kino, Local 11, Zona Rio, Tijuana, Baja California CP 22320, Mexico; Carretera Aeropuerto 1900, Local G-16, Tijuana, Baja California CP 22510, Mexico; R.F.C. CCK-010928-5C0 (Mexico) [SDNTK].

3. CONSULTORIA DE INTERDIVISAS, S.A. DE C.V., Carretera Aeropuerto 1900, Centro Comercial Otay, Local G-16, Tijuana, Baja California CP 22500, Mexico; R.F.C. CIN-010123-MX9 (Mexico) [SDNTK].

4. CONSULTORIA DE OCCIDENTE, S.A. DE C.V., Paseo de Ensenada 170, Tijuana, Baja California CP 22200, Mexico; Guadalajara, Jalisco, Mexico [SDNTK].

5. GLOBAL FILMS, S.A. DE C.V., Blvd. Fundadores 104-11A, Colonia Valle del Rubi, Tijuana, Baja California, Mexico; R.F.C. GFI-961219-9J4 (Mexico) [SDNTK].

6. GRUPO GAMAL, S.A. DE C.V., Av. La Paz 1951, Guadalajara, Jalisco CP 44160, Mexico [SDNTK].

7. GS PLUS CONSULTORES, S.A. DE C.V., Tijuana, Baja California, Mexico; R.F.C. GPC-011226-4A5 (Mexico) [SDNTK].

8. HACIENDA DE DON JOSE RESTAURANT BAR, S.A. DE C.V., Av. del Rocio 1193, Tijuana, Baja California CP 22200, Mexico [SDNTK].

9. M Q CONSULTORES, S.A. DE C.V., Tijuana, Baja California, Mexico; R.F.C. MQC-020611-6Y9 (Mexico) [SDNTK].

10. MULTISERVICIOS ALPHA, S.A. DE C.V., Paseo Playas 24-2, Colonia Playas de Tijuana, Tijuana, Baja California, Mexico; Av. Allende 1197, Colonia Independencia, Tijuana, Baja California, Mexico; R.F.C. MAL-960401-I35 (Mexico) [SDNTK].

11. MULTISERVICIOS GAMAL, S.A. DE C.V. (a.k.a. CASA DE CAMBIO RUBI), Av. Federico Benitez 6400-52, Colonia Yamille, Tijuana, Baja California, Mexico; Blvd. Fundadores 5343-22, Colonia El Rubi, Tijuana, Baja California CP 22180, Mexico; Paseo Ensenada S/N D11, Colonia Playas de Tijuana, Tijuana, Baja California, Mexico; Paseo Estrella Del Mar 359, Colonia Playas de Tijuana, Tijuana, Baja California CP 22200, Mexico; Paseo Playas 24-2, Colonia Playas de Tijuana, Tijuana, Mexico, Mexico; R.F.C. MGA-940615-SC3 (Mexico) [SDNTK].

12. MULTISERVICIOS SIGLO, S.A. DE C.V., Carretera Aeropuerto 1900-16G, Colonia Otay, Tijuana, Baja California, Mexico; Paseo Tijuana 10126-A, Colonia Zona Rio, Tijuana, Baja California, Mexico; R.F.C. MSI-960220-Q84 (Mexico) [SDNTK].

13. COMERCIALIZADORA ITAKA, S.A. DE C.V., Calle Deza y Ulloa Numero 2102A, Colonia San Felipe, Chihuahua, Chihuahua 31240, Mexico; Avenida Paseo Triunfo de la Republica 6610 2, Colonia Alamos de San Lorenzo, Juarez, Chihuahua, Mexico; Fresno No. 1116, Col Granjas, Chihuahua, Chihuahua 31000, Mexico; R.F.C. CIT030305FQ3 (Mexico) [SDNTK].

Dated: January 30, 2013.
Adam J. Szubin,
Director, Office of Foreign Assets Control.

[FR Doc. 2013-02617 Filed 2-5-13; 8:45 am]

BILLING CODE 4810-AL-P